DEPARTMENT OF HOMELAND SECURITY

Federal Emergency Management Agency

Agency Information Collection Activities: Proposed Collection; Comment Request

AGENCY: Federal Emergency Management Agency, Emergency Preparedness and Response Directorate, Department of Homeland Security.

ACTION: Notice and request for comments.

SUMMARY: The Emergency Preparedness and Response Directorate (EP&R), as part of its continuing effort to reduce paperwork and respondent burden, invites the general public and other Federal agencies to take this opportunity to comment on proposed continuing information collections. In accordance with the Paperwork Reduction Act of 1995 (44 U.S.C. 3506(c)(2)(A)), this notice seeks comments on information collected and maintained on students attending National Fire Academy (NFA) and Emergency Management Institute (EMI) courses.

SUPPLEMENTARY INFORMATION: Public Law 93-498, Federal Fire Prevention and Control Act, as amended, (15 U.S.C. 2201 et seq.) established the National Fire Academy (NFA) to “advance the professional development of fire service personnel and of other persons engaged in fire prevention and control activities * * *” and authorizes the Superintendent, NFA, to “conduct courses and programs of training and education * * *” Public Law 93-288, Robert T. Stafford Disaster Relief and Emergency Assistance Act, (42 U.S.C. 5121-5206) authorizes the President to establish “a program of disaster preparedness that utilizes services of all appropriate agencies and includes * * * (2) training and exercises * * *.” Under the authorities of Executive Order 12127 and 12148, as amended, the Secretary of the Department of Homeland Security, Emergency Preparedness and Response Directorate, Federal Emergency Management Agency, is responsible for carrying out the mandates of the public laws mentioned above. The Secretary established the National Emergency Training Center (NETC), located in Emmitsburg, Maryland, which houses both NFA and EMI. The data collection is used to (1) determine eligibility for courses and programs offered by NFA and EMI, (2) provide a consolidated record of all EP&R/FEMA training taken by a student, (3) provide a transcript which can be used by the student in requesting college credit or continuing education units for courses completed, and (4) to determine eligibility for student stipends.

Collection of Information

Title: General Admissions Application/General Admissions Application Short Form.

Type of Information Collection: Revision of a Currently Approved Collection.

OMB Number: 1660-0007 (formerly under OMB Number 3067-0024, which OMB transferred from FEMA to the Department of Homeland Security effective March 1, 2003).

Form Numbers: FEMA Form 75-5, General Admissions Application (paper and electronic versions); FEMA Form 75-5a, General Admissions Application Short Form paper and electronic versions).

Abstract: Currently EMI, NFA and the NETC Admissions Office are working towards consolidating, or linking databases so that EP&R/FEMA can eventually have a single source for training information. In attempting to accomplish this goal it was determined that specific information needs to be collected by all parties so a unified database can be developed. In the near future, the FEMA Form 75-5 will be available for the public to enroll in EMI and NFA courses electronically. In addition, the EMI Independent Study Program has made a commitment to begin using the new FEMA Form 75-5a (automated) to enroll students in EMI's Independent Study Program. Presently the Independent Study Program uses the OMB approved FEMA Form 95-23 (under OMB control number 1660-0046) to enroll students in this program. It is EP&R/FEMA's intent to replace FEMA Form 95-23 with the FEMA Form 75-5a (automated) form.

Affected Public: Individuals or households, Business or other for-profit, not-for-profit institutions, Federal Government, and State, local or tribal government.

Estimated Total Annual Burden Hours: 27,333.

FEMA forms | Number of respondents (A) | Frequency of response (B) | Hours/Minutes per response (C) (minutes) | Annual burden hours (A x B x C) | Average hourly wage rate | Estimated annual cost
75-5 | 10,000 | 1 | 9 | 1,500 | $33.65 | $7,571
75-5a | 25,000 | 1 | 6 | 2,500 | $22.84 | 5,710
75-5 (Automated) | 20,000 | 1 | 10 | 3,333 | $33.65 | 18,693
75-5a (Automated) | 150,000 | 1 | 8 | 20,000 | $22.84 | 60,907
Total | 235,000 |  |  | 27,333 |  | $92,881

Estimated Annual Cost to the Respondent: $92,881.

Estimated Annual Cost to the Federal Government: Costs include 50% of the data entry contract ($307,000), 50% of the annual salary cost of three full-time personnel working in the NETC Admissions Office (two GS9's and one GS11) at approximately $72,000, printing at $500 per year. Contract cost for supporting use of the new FEMA Forms 75-5 and 75-5a (automated) is estimated at $198,000, based on 20% of data entry contract ($123,000) and 20% of independent study contract ($75,000). Contract cost of the maintenance contract that includes the Admissions System, is estimated at $150,000, based on 25% of that contract. Total average estimated cost to the Federal Government is $727,500 annually.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Information Resources Management Division, Information Technology Services Directorate, Federal Emergency Management Agency, Emergency Preparedness and Response Directorate, Department of Homeland Security, 500 C Street, SW., Room 316, Washington, DC 20472.

FOR FURTHER INFORMATION CONTACT: Contact Darlyn Vestal, Admissions Specialist, Management, Operations and Support Services, U.S. Fire Administration, (301) 447-1415 for additional information. You may contact Ms. Anderson for copies of the proposed collection of information at facsimile number (202) 646-3347 or email address: Information.Collections@fema.gov.

Dated: July 15, 2003.
Edward W. Kernan, Division Director, Information and Resources Management Division, Information Technology Services Directorate.

[FR Doc. 03-18392 Filed 7-18-03; 8:45 am]

BILLING CODE 6718-01-P